DEPARTMENT OF HOUSING AND URBAN DEVELOPMENT

[Docket No. FR-5376-N-79]

Notice of Submission of Proposed Information Collection to OMB; Emergency Comment Request; Section 3 Implementation and Coordination Grant Application

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

This is a request for approval to provide competitive funding to States, units of local government, Public Housing Authorities, Indian Housing Authorities, Indian Tribes, or other public bodies to pay for the salaries, fringe benefits, and administrative expenses related to hiring a Section 3 Program Coordinator. Information collected under this approval will be used to select the highest ranked applicants, and to conduct quarterly and annual performance assessments.

Dates: Comments Due Date: August 20, 2010.

ADDRESSES: Interested persons are invited to submit comments regarding this proposal. Comments must be received within fourteen (14) days from the date of this Notice. Comments should refer to the proposal by name/or OMB approval number and should be sent to: HUD Desk Officer, Office of Management and Budget, New Executive Office Building, Washington, DC 20503; e-mail: OIRA_Submission @omb.eop.gov; fax: (202) 395-5806.

FOR FURTHER INFORMATION CONTACT: Leroy McKinney, Reports Management Officer, QDAM, Department of Housing and Urban Development, 451 Seventh Street, SW., Washington, DC 20410; e-mail: Leroy.MkinneyJR@hud.gov; telephone (202) 402-5564. This is not a toll-free number. Copies of available documents submitted to OMB may be obtained from Mr. McKinney.

SUPPLEMENTARY INFORMATION: This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Section 3 Implementation and Coordination Grant Application.

OMB Control Number: 2529-New.

Agency Form Numbers: SF-424, SF-424 Supplement, SF LLL, HUD-2880, HUD-2990, HUD-2993, HUD-424CB, HUD-424CBW, HUD-2994-A, HUD-27300, HUD-96010, and HUD-96011.

Description of Information Collection: This is a new information collection. The proposed information collection is intended to assess the qualifications of applicants for funding under the Section 3 Program Implementation and Coordination Notice of Funding Availability (NOFA). It will assess each applicant's ability to hire a Section 3 Program Coordinator that will be responsible for carrying out key assignments that will produce employment, training, and contracting opportunities for low- and very low-income persons and the businesses that provide services to them. Recipients of funding under this NOFA will also be required to submit quarterly and annual reports to the Department documenting their progress and performance with accomplishing the goals of the NOFA. This information will be submitted to HUD in the form of narrative reports that are based on milestones and deliverables established in the grantee's Work Plan.

Members of Affected Public: States, units of local government, Public Housing Authorities, Indian Housing Authorities, Indian Tribes, or other public bodies.

Estimation of the total numbers of hours needed to prepare the information collection including number of respondents, frequency of responses, and hours of responses: An estimation of the total number of hours needed to prepare the information collection is 170, the likely number of respondents is 515, with a frequency of response of 5 per annum.

Total Estimated Burden Hours: 170.

Status of the proposed information collection: 2529-New.

Authority: The Paperwork Reduction Act of 1995, 44 U.S.C. Chapter 35, as amended.

Dated: July 30, 2010.
Leroy McKinney Jr.,
Departmental Reports Management Officer, Office of the Chief Information Officer.

[FR Doc. 2010-19482 Filed 8-5-10; 8:45 am]

BILLING CODE 4210-67-P